NATIONAL AERONAUTICS AND SPACE ADMINISTRATION

[Notice: 24-035]

Name of Information Collection: NASA/KSC Business Opportunities Expo

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: Comments are due by July 5, 2024.

ADDRESSES: Written comments and recommendations for this information collection should be sent within 30 days of publication of this notice. You may send comments, identified by NASA Notice Number 24-035, to the Federal e-Rulemaking Portal: https://www.regulations.gov. Follow the instructions for sending comments.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email hq-ocio-pra-program@mail.nasa.gov.

SUPPLEMENTARY INFORMATION:

I. Abstract

The NASA Business Opportunities Expo is an annual event sponsored by the NASA KSC Prime Contractor Board, U.S. Air Force 45th Space Wing, and Canaveral Port Authority. Attendees include small businesses who want to meet and network with NASA and KSC prime contractors, large contractors seeking teaming opportunities with small businesses, and construction companies interested in learning more about NASA contract opportunities.

Exhibitors include businesses offering a variety of products and services, representatives from each NASA center, the Patrick Air Force Base 45th Space Wing, prime contractors, and other government agencies.

Attendee information collected is name, company, address, email, telephone. Exhibitors are asked to provide the same information, plus company information that is published in the event program: Commercial and Government Entity (CAGE) Code, Primary North American Industry Classification System (NAICS) Code Business Categories, Core company capabilities and Past or current work/contracts with NASA.

The National Aeronautics and Space Administration (NASA) is committed to effectively performing the Agency's communication function in accordance with the Space Act Section 203(a)(3) to “provide for the widest practicable and appropriate dissemination of information concerning its activities and the results there of,” and to enhance public understanding of, and participation in, the nation's space program in accordance with the NASA Strategic Plan.

II. Methods of Collection

This information will be collected via an electronic process.

III. Data

Title: NASA Business Opportunities Expo.

OMB Number: 2730-0001.

Type of review: Reinstatement.

Affected Public: Individuals.

Estimated Annual Number of Activities: 1.

Estimated Number of Respondents per Activity: 2,300.

Annual Responses: 2,300.

Estimated Time per Response: Attendees: 1 minute; Exhibitors: 5 minutes.

Estimated Total Annual Burden Hours: 16.6.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2024-12258 Filed 6-4-24; 8:45 am]

BILLING CODE 7510-13-P